DEPARTMENT OF EDUCATION

Brown v. Board of Education 50th Anniversary Commission; Meeting

AGENCY: Brown v. Board of Education 50th Anniversary Commission, U.S. Department of Education (ED).

ACTION: Notice of meeting.

SUMMARY: This notice provides the schedule of a forthcoming meeting of the Brown v. Board of Education 50th Anniversary Commission. This notice also describes the functions of the commission. This document is intended to notify the general public of their opportunity to attend.

Date and Time: November 13, 2002 at 8:45 a.m.

ADDRESSES: Howard University School of Law, Allen Mercer Daniel Law Library, 2900 Van Ness Street, NW., Washington, DC 20008.

FOR FURTHER INFORMATION CONTACT: Daniel W. Sutherland, Chief of Staff, Office for Civil Rights, U.S. Department of Education, 330 C Street, SW., Washington, DC 20202, (202) 205-5526.

SUPPLEMENTARY INFORMATION: Brown v. Board of Education 50th Anniversary Commission is established under Public Law 107-41 to commemorate the 50th anniversary of the Brown decision. The Commission, in conjunction with the U.S. Department of Education, is responsible for planning and coordinating public education activities and initiatives. Also, the Commission, in cooperation with the Brown Foundation for Educational Equity, Excellence, and Research in Topeka, Kansas, and such other public or private entities as the Commission deems appropriate, is responsible for encouraging, planning, developing, and coordinating observances of the anniversary of the Brown decision. The meeting of the Commission is open to the public. Individuals who will need accommodations for a disability in order to attend the meeting (i.e. interpreting services, assistive listening devices, materials in alternative format) should notify Mary McPhail at (202) 205-9529 by no later than November 6, 2002. We will attempt to meet requests after that date, but cannot guarantee availability.

Dated: October 30, 2002.
Gerald A. Reynolds,
Assistant Secretary for Civil Rights.

[FR Doc. 02-28049 Filed 11-4-02; 8:45 am]

BILLING CODE 4000-01-M